OFFICE OF MANAGEMENT AND BUDGET

North American Industry Classification System (NAICS) Updates for 2022; Update of Statistical Policy Directive No. 8, Standard Industrial Classification of Establishments; and Elimination of Statistical Policy Directive No. 9, Standard Industrial Classification of Enterprises

AGENCY: Office of Information and Regulatory Affairs, Office of Management and Budget, Executive Office of the President.

ACTION: Notice of Solicitation of Comments on the Economic Classification Policy Committee's Recommendations for the 2022 Revision of the North American Industry Classification System; Update of Statistical Policy Directive No. 8, Standard Industrial Classification of Establishments; and Elimination of Statistical Policy Directive No. 9, Standard Industrial Classification of Enterprises.

SUMMARY: The Office of Management and Budget (OMB) seeks public comment on the advisability of adopting the proposed North American Industry Classification System (NAICS) updates for 2022 recommended by its Economic Classification Policy Committee (ECPC), which comprises representatives of the Bureau of Economic Analysis, Bureau of Labor Statistics, U.S. Census Bureau, and other government agencies. The ECPC recommends an update of the industry classification system to clarify existing industry definitions and content, recognize new and emerging industries, combine industries, and correct errors and omissions. The ECPC also recommends an update of OMB Statistical Policy Directive No. 8, Standard Industrial Classification of Establishments, and to withdraw OMB Statistical Policy Directive No. 9, Standard Industrial Classification of Enterprises. In large part, this proposed series of revisions are designed to address the view of the ECPC regarding the decreasing usefulness of employing the mode of delivery (online versus in store/print) as an industry delineation criterion in the Wholesale Trade, Retail Trade, and Information sectors. In short, the internet has developed from a specialized activity to a generic method of delivery for goods and services. Therefore, the ECPC has developed recommendations that reevaluate and deemphasize the delivery method as an industry function used in NAICS classification. There are four parts in the SUPPLEMENTARY INFORMATION section below. Part I summarizes the background for the proposed revisions to NAICS 2017. Part II contains a summary of public comments regarding priorities for changes to NAICS in 2022, the ECPC recommendation to update OMB Statistical Policy Directive No. 8, Standard Industrial Classification of Establishments, and the ECPC recommendation to withdraw OMB Statistical Policy Directive No. 9, Standard Industrial Classification of Enterprises. Part III includes a list of title changes for NAICS industries that clarify, but do not change, the existing content of the industries. Part IV provides a comprehensive listing of proposed changes for national industries and their links to NAICS 2017 industries.

DATES: To ensure consideration of comments on the adoption and implementation of the NAICS revisions detailed in this notice, please submit all comments in writing as soon as possible, but no later than 45 days from the publication date of this notice. Because of delays in the receipt of regular mail related to security screening, respondents are encouraged to send comments electronically (see ADDRESSES, below). This proposed revision to NAICS would become effective in the U.S. for publication of establishment data that refer to periods beginning on or after January 1, 2022.

ADDRESSES: Submit comments through www.regulations.gov—a Federal E-Government website that allows the public to find, review, and submit comments on documents that agencies have published in the Federal Register and that are open for comment. Enter “USBC-2021-0004” (in quotes) in the search box and follow the instructions for submitting comments. Comments received by the date specified above will be included as part of the official record. Please include the Docket ID (USBC-2021-0004) and the phrase “North American Industry Classification System (NAICS)—Updates for 2022” at the beginning of your comments. Please also indicate which ECPC recommendation described in the SUPPLEMENTARY INFORMATION of this notice is addressed in your comments.

Comments submitted in response to this notice may be made available to the public and subject to disclosure under the Freedom of Information Act. For this reason, please do not include in your comments information of a confidential nature, such as sensitive personal information or proprietary information. If you send an email comment, your email address will be automatically captured and included as part of the comment that is placed in the public docket; however, www.regulations.gov does include the option of commenting anonymously. Please note that responses to this public comment request containing any routine notice about the confidentiality of the communication will be treated as public comments that may be made available to the public notwithstanding the inclusion of the routine notice.

Electronic Availability: Federal Register notices are available electronically at www.federalregister.gov/. This document is also available on the NAICS website at www.census.gov/naics. This site contains previous NAICS United States Federal Register notices, ECPC Issues Papers, ECPC Reports, the structures, industry definitions, and related documents for previous versions of NAICS United States.

Public Review Procedure: All comments and proposals received in response to this notice will be available for public inspection. OMB will publish final changes to NAICS for 2022 resulting from this notice in the Federal Register.

FOR FURTHER INFORMATION CONTACT: For information about this request for comments, contact Kerrie Leslie, Office of Management and Budget, 9215 New Executive Office Building, 725 17th St. NW, Washington, DC 20503, telephone (202) 395-1093.

NAICS classification staff may be reached by email at econ.naics2022@census.gov. Please note: Communication through this email will not be included in the record for USBC-2021-0004. Comments should be submitted through www.regulations.gov, as described in the ADDRESSES section above.

SUPPLEMENTARY INFORMATION: OMB published a notification of intention to revise portions of NAICS in a February 26, 2020, Federal Register notice (85 FR 11120-11124). That notice solicited comments on the advisability of revising the NAICS 2017 structure for 2022: (1) To identify new and emerging industries, (2) to solicit comments on the NAICS treatment of Electronic Shopping in Retail Trade, (3) to solicit comments on the concept of internet Publishing and Broadcasting and the potential to eliminate the industry in NAICS 2022, (4) to solicit comments on a proposed revision to OMB's Statistical Policy Directive No. 8, Standard Industrial Classification of Establishments, (5) to solicit comments on the advisability of withdrawing OMB Statistical Policy Directive No. 9, Standard Industrial Classification of Enterprises, and (6) to make required changes for errors and omissions in NAICS 2017. The deadline for submitting comments was April 27, 2020.

After considering all proposals from the public, consulting with U.S. data users and industry groups, and undertaking extensive discussions with Statistics Canada and Mexico's Instituto Nacional de Estadística y Geografía (INEGI), the ECPC recommends that NAICS United States 2022 incorporate changes as shown in Parts III and IV of this notice.

Following a thorough process of development and discussions by the ECPC, with maximum possible public input, OMB seeks comment on the advisability of revising NAICS to incorporate the changes published in this notice. The revised NAICS would be employed in relevant data collections by all U.S. statistical agencies beginning with reference year 2022.

I: Background of NAICS

NAICS is a system for classifying establishments (individual business locations) by type of economic activity. Its purposes are: (1) To facilitate the collection, tabulation, presentation, and analysis of data relating to establishments, and (2) to promote uniformity and comparability in the presentation and analysis of statistical data describing the North American economy. Federal statistical agencies use NAICS to collect and/or publish data by industry. It is also widely used by State agencies, trade associations, private businesses, and other organizations.

Mexico's Instituto Nacional de Estadística y Geografía (INEGI), Statistics Canada, and the United States Office of Management and Budget (OMB), through the ECPC, collaborated on NAICS to make the industry statistics produced by the three countries comparable. NAICS is the first industry classification system developed in accordance with a single principle of aggregation, i.e., producing units that use similar production processes should be grouped together in the classification. NAICS also reflects changes in technology and in the growth and diversification of services in recent decades. Industry statistics presented using NAICS 2017 are extensively comparable with statistics compiled according to the latest revision of the United Nations' International Standard Industrial Classification of All Economic Activities (ISIC, Revision 4).

For these three countries, NAICS provides a consistent framework for the collection, tabulation, presentation, and analysis of industry statistics used by government policy analysts, by academics and researchers, by the business community, and by the public. Please note that NAICS is designed and maintained solely for statistical purposes to improve and keep current this Federal statistical standard. Consequently, although the classification may also be used for various nonstatistical purposes (e.g., for administrative, regulatory, or taxation functions), the requirements of government agencies or private users that choose to use NAICS for nonstatistical purposes play no role in its development or revision.

Four principles that guide NAICS development are:

(1) NAICS is erected on a production-oriented conceptual framework. This means that producing units that use the same or similar production processes are grouped together in NAICS.

(2) NAICS gives special attention to developing production-oriented classifications for (a) new and emerging industries, (b) service industries in general, and (c) industries engaged in the production of advanced technologies.

(3) Time series continuity is maintained to the extent possible.

(4) The system strives for compatibility with the two-digit level of the International Standard Industrial Classification of All Economic Activities (ISIC, Rev. 4) of the United Nations.

The ECPC is committed to maintaining the principles of NAICS during revisions. The February 26, 2020, solicitation for public comment on questions related to a potential revision of NAICS in 2022 was directly tied to the application of these four NAICS principles.

NAICS uses a hierarchical structure to classify establishments from the broadest level to the most detailed level using the following format:

Sector | 2-digit | Sectors represent the highest level of aggregation. There are 20 sectors in NAICS.
Subsector | 3-digit | Subsectors represent the next, more detailed level of aggregation. There are 99 subsectors in NAICS 2017.
Industry Group | 4-digit | Industry groups are more detailed than subsectors. There are 311 industry groups in NAICS 2017.
NAICS Industry | 5-digit | NAICS industries, in most cases, represent the lowest level of three-country comparability. There are 709 five-digit industries in NAICS 2017.
National Industry | 6-digit | National industries are the most detailed level and represent the national level detail. There are 1,057 national industries in NAICS United States 2017.

To ensure the accuracy, timeliness, and relevance of the classification, NAICS is reviewed every five years to determine what, if any, changes are required. The 2022 revision will be the fifth since OMB adopted NAICS in 1997. The ECPC recognizes the costs involved when implementing industry classification revisions in statistical programs and the costs for data users when there are disruptions in the availability of data. The ECPC also recognizes the economic, statistical, and policy implications that arise when the industry classification system does not identify and account for important economic developments. Balancing the costs of change against the potential for more accurate and relevant economic statistics requires significant input from data producers, data providers, and data users.

In large part, this proposed revision addresses the decreasing usefulness of employing the mode of delivery (online versus in store/print) as an industry delineation criterion in the Wholesale Trade, Retail Trade, and Information sectors. Section II.B Summary of ECPC Recommendations for Online Industries in the Wholesale Trade, Retail Trade, and Information Sectors below describes the ECPC recommendations in more detail.

II: Summary of Public Comments Regarding Priorities for Changes to NAICS in 2022; Summary of ECPC Recommendations for Online Industries in the Wholesale Trade, Retail Trade, and Information Sectors; Update of Statistical Policy Directive No. 8, Standard Industrial Classification of Establishments; and Elimination of Statistical Policy Directive No. 9, Standard Industrial Classification of Enterprises

A. Summary of Public Comments Regarding Priorities for Changes to NAICS in 2022

The February 26, 2020, Federal Register notice sought comments from the public specifically on the continued usefulness of the mode of delivery (online versus in store/print) as an industry delineation criterion in addition to comments on new and emerging industries and the proposed update of Statistical Policy Directive No. 8 and proposed elimination of Statistical Policy Directive No. 9. These focus areas were highlighted in Parts II-VII of that notice.

In response to the February 26, 2020, notice, the ECPC received 63 individual submissions. Each submission was assigned a unique docket number. These 63 submissions addressed the focus areas included in Parts II-VII of the February 26, 2020, notice and/or included comments proposing other changes to NAICS 2017.

The ECPC applied the following general guidance when considering changes to NAICS in 2022:

(1) Because of the cost of change and the disruption of statistical data series that have already resulted from the ongoing implementation of NAICS, the ECPC will limit the scope of NAICS changes for 2022 to those that significantly improve the relevance and efficiency of the classification system;

(2) The ECPC will recommend new and emerging industries identified through the comment process that are supported by the guiding principles of NAICS; and

(3) The ECPC will make changes to account for errors and omissions as well as recommend narrative improvements to clarify the content of existing industries.

The ECPC also considered the views of its member agencies when evaluating specific proposals for changes to NAICS in 2022. The ECPC reviewed each individual proposal within the existing framework of the principles of NAICS. Additional considerations that resulted in recommendations for or against change included issues of relevance, size, and time series continuity.

The ECPC received a wide ranging and eclectic set of suggestions in response to this solicitation. Single submissions often addressed more than one issue, and many submissions addressed common issues. Of the 63 uniquely numbered submissions received in response to the Federal Register notice, most submissions responded with ideas for new or emerging industries or changes to existing industries to reflect new or emerging issues within the industries: 14 supported a new sector for remanufacturing industries, or, alternatively, new industries for remanufacturing; three requested changes for early child care and education; two requested revisions to better reflect the bioeconomy and biobased products; two requested a new industry for compost manufacturing; two supported new vegan industries; two requested a new industry for construction specifications consulting; and two requested a new industry group for farm supply retailers. Single comments requested various new industries or clarifications within existing industries, including aerial wildland firefighting, interior demolition, audio visual services, refrigerant handling and management, agents for wireless telecommunications services, background screening, restaurant breweries, rideshare services, and pharmacy benefit management. A few comments responded about the continued usefulness of mode of delivery (online versus in store/print) as an industry delineation: Three addressed the current treatment of electronic shopping in NAICS with two in favor of some kind of change and one against. The balance of the comments identified long-term declines in the size of existing industries as justification for industry combinations in the Mining, Manufacturing, Wholesale Trade, Retail Trade, Finance and Insurance, and Other Services (Except Public Administration) sectors. No comments were received on the proposed update to Statistical Policy Directive No. 8 or the elimination of Statistical Policy Directive No. 9.

Each suggestion was carefully considered. Some suggestions were recommended for adoption but modified by the ECPC to better meet the objectives of NAICS. Based on public comments, the ECPC is recommending industry definition changes to explicitly classify certain activities and more clearly match accepted industry terminology. Some suggestions were recommended to be incorporated as products rather than industries. Other suggestions for change were not suited to the production-oriented basis of NAICS or could not be implemented in statistical programs, for various reasons, and thus were not accepted. When a proposal was not accepted, it was usually because: (a) The resulting industry would have been too small in the U.S., or (b) the proposal did not meet the production-oriented criterion for forming an industry in NAICS. Detailed supporting documentation discussing the issues and rationale for reaching these recommendations is available at www.census.gov/naics, and Section II parts B-D below describe the ECPC recommendations to address the specific focus areas from the February 26, 2020, Federal Register notice: Continued usefulness of mode of delivery (online versus in store/print) as an industry delineation, proposed update to Statistical Policy Directive No. 8, and proposed elimination to Statistical Policy Directive No. 9.

B. Summary of ECPC Recommendations for Online Industries in the Wholesale Trade, Retail Trade, and Information Sectors

The ECPC received only three comments in response to the February 26, 2020, Federal Register notice related to the continued usefulness of mode of delivery (online versus in store/print) as an industry delineation, with two generally in favor and one against. The ECPC notes that the internet has developed from a specialized activity to a generic method of delivery for goods and services. The use of the internet as a separate production function when defining industries in NAICS is problematic and requires reevaluation as internet usage has permeated the economy. With this in mind, after a technical review and consideration of the submitted comments, the ECPC recommends related changes for NAICS 2022 that apply specifically to the Wholesale Trade, Retail Trade, and Information sectors. The relevant ECPC recommendations follow by sector:

(1) Wholesale Trade

For the Wholesale Trade sector, the ECPC recommends eliminating NAICS Industry 425110, Business to Business Electronic Markets. With this change, Subsector 425 and Industry Group 4251 would be renamed to “Wholesale Trade Agents and Brokers.” Given the minimal impact of combining NAICS Industries 425110 and 425120, Wholesale Trade Agents and Brokers, the ECPC does not recommend changes to codes or titles for NAICS Industries 42512 and 425120.

(2) Retail Trade

For the Retail Trade sector, given the increasing prevalence of omni-channel distribution and variations in reporting patterns, the ECPC recommends eliminating the store/nonstore distinction. Subsector 454, Nonstore Retailers, includes industries for electronic shopping and mail-order houses, vending machine operators, fuel dealers, and other direct selling establishments. In the proposed NAICS 2022 structure for the sector, electronic shopping, mail-order houses, and other direct selling establishments would be distributed throughout the new structure in the same way as retail stores, delineated by specialized broad product lines, such as groceries, apparel, hardware, etc. versus general merchandise. Vending machine operators would be retained as a 6-digit industry and combined with convenience retailers in a 5-digit industry for Convenience Retailers and Vending Machine Operators, included in the industry group for Grocery and Convenience Retailers, and in the subsector for Food and Beverage Retailers. Fuel dealers would be retained as 5- and 6-digit industries within the industry group for Fuel Dealers, grouped with gasoline stations at the subsector level.

(3) Information

For the Information sector, given the increasing prevalence of internet as a generic method of delivery for publishing and broadcasting, the ECPC recommends moving away from an internet-only distinction within this sector as well by eliminating NAICS Industry 519130, Internet Publishing and Broadcasting and Web Search Portals, and

(a) combining Subsector 511, Publishing Industries (except internet) with internet-only publishing to create Subsector 513, Publishing Industries, and retaining the structure of Subsector 511;

(b) combining Subsector 515, Broadcasting (except internet) with internet-only broadcasting and news syndicates, formerly in Subsector 519, to create Subsector 516, Broadcasting and Content Providers, with a 4-digit industry group for Radio and Television Broadcasting Stations, based on the production process of owning infrastructure and controlling the use of public spectrum, and a second 4-digit industry group for Media Streaming Distribution Services, Social Networks, and Other Media Networks and Content Providers; and

(c) retaining web search portals in Subsector 519, Other Information Services, retitled to Web Search Portals, Libraries, Archives, and Other Information Services.

C. Update of Statistical Policy Directive No. 8, Standard Industrial Classification of Establishments

The ECPC recommends updating the text of Statistical Policy Directive No. 8, Standard Industrial Classification of Establishments, using the language proposed in the February 26, 2020, Federal Register notice. No public comments submitted in response to the February 26, 2020, Federal Register notice offered views on this proposed update. OMB adopted NAICS as the replacement for the Standard Industrial Classification (SIC) for statistical purposes in 1997 (62 FR 17288-17337).

D. Elimination of Statistical Policy Directive No. 9, Standard Industrial Classification of Enterprises

The ECPC recommends eliminating Statistical Policy Directive No. 9, Standard Industrial Classification of Enterprises. OMB presented the Enterprise Standard Industrial Classification of Enterprises in 1974. The classification is static and has not been updated or widely adopted over the past 45 years. NAICS United States does not include a similar variant for classification of enterprises. No public comments submitted in response to the February 26, 2020, Federal Register notice offered views on this proposed elimination.

III: ECPC Recommendations for Title Changes

Based on a technical review of the titles, in response to some comments submitted describing a lack of clarity, and for consistency with the ECPC recommendations to make changes to industries to deemphasize mode of delivery (online versus in store/print) as a delineation, the ECPC recommends the following NAICS subsector, industry group, and industry title changes to more clearly describe the existing content.

NAICS 311221, Wet Corn Milling, would be changed to “Wet Corn Milling and Starch Manufacturing.”

NAICS 32531, Fertilizer Manufacturing, would be changed to “Fertilizer and Compost Manufacturing.”

NAICS 325992, Photographic Film, Paper, Plate, and Chemical Manufacturing, would be changed to “Photographic Film, Paper, Plate, Chemical, and Copy Toner Manufacturing.”

NAICS 42494, Tobacco and Tobacco Product Merchant Wholesalers, would be changed to “Tobacco Product and Electronic Cigarette Merchant Wholesalers.”

NAICS 424940, Tobacco and Tobacco Product Merchant Wholesalers, would be changed to “Tobacco Product and Electronic Cigarette Merchant Wholesalers.”

NAICS Subsector 425, Wholesale Electronic Markets and Agents and Brokers, would be changed to “Wholesale Trade Agents and Brokers.”

NAICS Industry Group 4251, Wholesale Electronic Markets and Agents and Brokers, would be changed to “Wholesale Trade Agents and Brokers.”

NAICS 44412, Paint and Wallpaper Stores, would be changed to “Paint and Wallpaper Retailers.”

NAICS 444120, Paint and Wallpaper Stores, would be changed to “Paint and Wallpaper Retailers.”

NAICS 44511, Supermarkets and Other Grocery (except Convenience) Stores, would be changed to “Supermarkets and Other Grocery Retailers (except Convenience Retailers).”

NAICS 445110, Supermarkets and Other Grocery (except Convenience) Stores, would be changed to “Supermarkets and Other Grocery Retailers (except Convenience Retailers).”

NAICS 44523, Fruit and Vegetable Markets, would be changed to “Fruit and Vegetable Retailers.”

NAICS 445230, Fruit and Vegetable Markets, would be changed to “Fruit and Vegetable Retailers.”

NAICS 44529, Other Specialty Food Stores, would be changed to “Other Specialty Food Retailers.”

NAICS 445291, Baked Goods Stores, would be changed to “Baked Goods Retailers.”

NAICS 445292, Confectionery and Nut Stores, would be changed to “Confectionery and Nut Retailers.”

NAICS 48531, Taxi Service, would be changed to “Taxi and Ridesharing Services.”

NAICS 485310, Taxi Service, would be changed to “Taxi and Ridesharing Services.”

NAICS Subsector 518, Data Processing, Hosting, and Related Services, would be changed to “Computing Infrastructure Providers, Data Processing, Web Hosting, and Related Services.”

NAICS Industry Group 5182, Data Processing, Hosting, and Related Services, would be changed to “Computing Infrastructure Providers, Data Processing, Web Hosting, and Related Services.”

NAICS 51821, Data Processing, Hosting, and Related Services, would be changed to “Computing Infrastructure Providers, Data Processing, Web Hosting, and Related Services.”

NAICS 518210, Data Processing, Hosting, and Related Services, would be changed to “Computing Infrastructure Providers, Data Processing, Web Hosting, and Related Services.”

NAICS 524292, Third Party Administration of Insurance and Pension Funds, would be changed to “Pharmacy Benefit Management and Other Third Party Administration of Insurance and Pension Funds.”

NAICS 54138, Testing Laboratories, would be changed to “Testing Laboratories and Services.”

NAICS 541380, Testing Laboratories, would be changed to “Testing Laboratories and Services.”

NAICS 54185, Outdoor Advertising, would be changed to “Indoor and Outdoor Display Advertising.”

NAICS 541850, Outdoor Advertising, would be changed to “Indoor and Outdoor Display Advertising.”

NAICS 561611, Investigation Services, would be changed to “Investigation and Personal Background Check Services.”

NAICS Industry Group 6244, Child Day Care Services, would be changed to “Child Care Services.”

NAICS 62441, Child Day Care Services, would be changed to “Child Care Services.”

NAICS 624410, Child Day Care Services, would be changed to “Child Care Services.”

IV: ECPC Recommendations for 2022 Changes to NAICS United States 2017

Part IV presents the ECPC recommendations for content revisions to NAICS United States for 2022. Table 1 lists, in NAICS United States 2017 order, the disposition of all industries that the ECPC recommends for change and their resulting relationship to NAICS United States 2022 proposed industries. Table 2 presents the ECPC recommended NAICS 2022 industries in proposed NAICS United States 2022 order, cross-walked to their NAICS United States 2017 content.

Table 1—2017 NAICS United States Matched to ECPC Recommendations for 2022 NAICS United States
2017 NAICS code | 2017 NAICS description | Status code | 2022 NAICS code | 2022 NAICS description
212111 | Bituminous Coal and Lignite Surface Mining | pt. | 212114 | Surface Coal Mining.
212112 | Bituminous Coal Underground Mining | pt. | 212115 | Underground Coal Mining.
212113 | Anthracite Mining:
| anthracite surface mining | pt. | 212114 | Surface Coal Mining.
| anthracite underground mining | pt. | 212115 | Underground Coal Mining.
212221 | Gold Ore Mining | pt. | 212220 | Gold Ore and Silver Ore Mining.
212222 | Silver Ore Mining | pt. | 212220 | Gold Ore and Silver Ore Mining.
212291 | Uranium-Radium-Vanadium Ore Mining | pt. | 212290 | Other Metal Ore Mining.
212299 | All Other Metal Ore Mining | pt. | 212290 | Other Metal Ore Mining.
212324 | Kaolin and Ball Clay Mining | pt. | 212323 | Kaolin, Clay, and Ceramic and Refractory Minerals Mining.
212325 | Clay and Ceramic and Refractory Minerals Mining | pt. | 212323 | Kaolin, Clay, and Ceramic and Refractory Minerals Mining.
212391 | Potash, Soda, and Borate Mineral Mining | pt. | 212390 | Other Nonmetallic Mineral Mining and Quarrying.
212392 | Phosphate Rock Mining | pt. | 212390 | Other Nonmetallic Mineral Mining and Quarrying.
212393 | Other Chemical and Fertilizer Mineral Mining | pt. | 212390 | Other Nonmetallic Mineral Mining and Quarrying.
212399 | All Other Nonmetallic Mineral Mining | pt. | 212390 | Other Nonmetallic Mineral Mining and Quarrying.
315110 | Hosiery and Sock Mills | pt. | 315120 | Apparel Knitting Mills.
315190 | Other Apparel Knitting Mills | pt. | 315120 | Apparel Knitting Mills.
315220 | Men's and Boys' Cut and Sew Apparel Manufacturing | pt. | 315250 | Cut and Sew Apparel Manufacturing (except Contractors).
315240 | Women's, Girls', and Infants' Cut and Sew Apparel Manufacturing | pt. | 315250 | Cut and Sew Apparel Manufacturing (except Contractors).
315280 | Other Cut and Sew Apparel Manufacturing | pt. | 315250 | Cut and Sew Apparel Manufacturing (except Contractors).
316992 | Women's Handbag and Purse Manufacturing | pt. | 316990 | Other Leather and Allied Product Manufacturing.
316998 | All Other Leather Good and Allied Product Manufacturing | pt. | 316990 | Other Leather and Allied Product Manufacturing.
321213 | Engineered Wood Member (except Truss) Manufacturing | pt. | 321215 | Engineered Wood Member Manufacturing.
321214 | Truss Manufacturing | pt. | 321215 | Engineered Wood Member Manufacturing.
322121 | Paper (except Newsprint) Mills | pt. | 322120 | Paper Mills.
322122 | Newsprint Mills | pt. | 322120 | Paper Mills.
325314 | Fertilizer (Mixing Only) Manufacturing:
| compost manufacturing |  | 325315 | Compost Manufacturing.
| except compost manufacturing |  | 325314 | Fertilizer (Mixing Only) Manufacturing.
333244 | Printing Machinery and Equipment Manufacturing | pt. | 333248 | All Other Industrial Machinery Manufacturing.
333249 | Other Industrial Machinery Manufacturing | pt. | 333248 | All Other Industrial Machinery Manufacturing.
333314 | Optical Instrument and Lens Manufacturing | pt. | 333310 | Commercial and Service Industry Machinery Manufacturing.
333316 | Photographic and Photocopying Equipment Manufacturing | pt. | 333310 | Commercial and Service Industry Machinery Manufacturing.
333318 | Other Commercial and Service Industry Machinery Manufacturing | pt. | 333310 | Commercial and Service Industry Machinery Manufacturing.
333997 | Scale and Balance Manufacturing | pt. | 333998 | All Other Miscellaneous General Purpose Machinery Manufacturing.
333999 | All Other Miscellaneous General Purpose Machinery Manufacturing | pt. | 333998 | All Other Miscellaneous General Purpose Machinery Manufacturing.
334613 | Blank Magnetic and Optical Recording Media Manufacturing | pt. | 334610 | Manufacturing and Reproducing Magnetic and Optical Media.
334614 | Software and Other Prerecorded Compact Disc, Tape, and Record Reproducing | pt. | 334610 | Manufacturing and Reproducing Magnetic and Optical Media.
335110 | Electric Lamp Bulb and Part Manufacturing | pt. | 335139 | Electric Lamp Bulb and Other Lighting Equipment Manufacturing.
335121 | Residential Electric Lighting Fixture Manufacturing |  | 335131 | Residential Electric Lighting Fixture Manufacturing.
335122 | Commercial, Industrial, and Institutional Electric Lighting Fixture Manufacturing |  | 335132 | Commercial, Industrial, and Institutional Electric Lighting Fixture Manufacturing.
335129 | Other Lighting Equipment Manufacturing | pt. | 335139 | Electric Lamp Bulb and Other Lighting Equipment Manufacturing.
335911 | Storage Battery Manufacturing | pt. | 335910 | Battery Manufacturing.
335912 | Primary Battery Manufacturing | pt. | 335910 | Battery Manufacturing.
336111 | Automobile Manufacturing | pt. | 336110 | Automobile and Light Duty Motor Vehicle Manufacturing.
336112 | Light Truck and Utility Vehicle Manufacturing | pt. | 336110 | Automobile and Light Duty Motor Vehicle Manufacturing.
337124 | Metal Household Furniture Manufacturing | pt. | 337126 | Household Furniture (except Wood and Upholstered) Manufacturing.
337125 | Household Furniture (except Wood and Metal) Manufacturing | pt. | 337126 | Household Furniture (except Wood and Upholstered) Manufacturing.
424320 | Men's and Boys' Clothing and Furnishings Merchant Wholesalers | pt. | 424350 | Clothing and Clothing Accessories Merchant Wholesalers.
424330 | Women's, Children's, and Infants' Clothing and Accessories Merchant Wholesalers | pt. | 424350 | Clothing and Clothing Accessories Merchant Wholesalers.
425110 | Business to Business Electronic Markets | pt. | 425120 | Wholesale Trade Agents and Brokers.
425120 | Wholesale Trade Agents and Brokers | pt. | 425120 | Wholesale Trade Agents and Brokers.
441228 | Motorcycle, ATV, and All Other Motor Vehicle Dealers | pt. | 441227 | Motorcycle, ATV, and All Other Motor Vehicle Dealers.
441310 | Automotive Parts and Accessories Stores | pt. | 441330 | Automotive Parts and Accessories Retailers.
441320 | Tire Dealers | pt. | 441340 | Tire Dealers.
442110 | Furniture Stores | pt. | 449110 | Furniture Retailers.
442210 | Floor Covering Stores | pt. | 449121 | Floor Covering Retailers.
442291 | Window Treatment Stores | pt. | 449122 | Window Treatment Retailers.
442299 | All Other Home Furnishings Stores | pt. | 449129 | All Other Home Furnishings Retailers.
443141 | Household Appliance Stores | pt. | 449210 | Electronics and Appliance Retailers.
443142 | Electronics Stores | pt. | 449210 | Electronics and Appliance Retailers.
444130 | Hardware Stores | pt. | 444140 | Hardware Retailers.
444190 | Other Building Material Dealers | pt. | 444180 | Other Building Material Dealers.
444210 | Outdoor Power Equipment Stores | pt. | 444230 | Outdoor Power Equipment Retailers.
444220 | Nursery, Garden Center, and Farm Supply Stores | pt. | 444240 | Nursery, Garden Center, and Farm Supply Retailers.
445120 | Convenience Stores | pt. | 445131 | Convenience Retailers.
445210 | Meat Markets | pt. | 445240 | Meat Retailers.
445220 | Fish and Seafood Markets | pt. | 445250 | Fish and Seafood Retailers.
445299 | All Other Specialty Food Stores | pt. | 445298 | All Other Specialty Food Retailers.
445310 | Beer, Wine, and Liquor Stores | pt. | 445320 | Beer, Wine, and Liquor Retailers.
446110 | Pharmacies and Drug Stores | pt. | 456110 | Pharmacies and Drug Retailers.
446120 | Cosmetics, Beauty Supplies, and Perfume Stores | pt. | 456120 | Cosmetics, Beauty Supplies, and Perfume Retailers.
446130 | Optical Goods Stores | pt. | 456130 | Optical Goods Retailers.
446191 | Food (Health) Supplement Stores | pt. | 456191 | Food (Health) Supplement Retailers.
446199 | All Other Health and Personal Care Stores | pt. | 456199 | All Other Health and Personal Care Retailers.
447110 | Gasoline Stations with Convenience Stores |  | 457110 | Gasoline Stations with Convenience Stores.
447190 | Other Gasoline Stations |  | 457120 | Other Gasoline Stations.
448110 | Men's Clothing Stores | pt. | 458110 | Clothing and Clothing Accessories Retailers.
448120 | Women's Clothing Stores | pt. | 458110 | Clothing and Clothing Accessories Retailers.
448130 | Children's and Infants' Clothing Stores | pt. | 458110 | Clothing and Clothing Accessories Retailers.
448140 | Family Clothing Stores | pt. | 458110 | Clothing and Clothing Accessories Retailers.
448150 | Clothing Accessories Stores | pt. | 458110 | Clothing and Clothing Accessories Retailers.
448190 | Other Clothing Stores | pt. | 458110 | Clothing and Clothing Accessories Retailers.
448210 | Shoe Stores | pt. | 458210 | Shoe Retailers.
448310 | Jewelry Stores | pt. | 458310 | Jewelry Retailers.
448320 | Luggage and Leather Goods Stores | pt. | 458320 | Luggage and Leather Goods Retailers.
451110 | Sporting Goods Stores | pt. | 459110 | Sporting Goods Retailers.
451120 | Hobby, Toy, and Game Stores | pt. | 459120 | Hobby, Toy, and Game Retailers.
451130 | Sewing, Needlework, and Piece Goods Stores | pt. | 459130 | Sewing, Needlework, and Piece Goods Retailers.
451140 | Musical Instrument and Supplies Stores | pt. | 459140 | Musical Instrument and Supplies Retailers.
451211 | Book Stores | pt. | 459210 | Book Retailers and News Dealers.
451212 | News Dealers and Newsstands | pt. | 459210 | Book Retailers and News Dealers.
452210 | Department Stores | pt. | 455110 | Department Stores.
452311 | Warehouse Clubs and Supercenters | pt. | 455211 | Warehouse Clubs and Supercenters.
452319 | All Other General Merchandise Stores | pt. | 455219 | All Other General Merchandise Retailers.
453110 | Florists | pt. | 459310 | Florists.
453210 | Office Supplies and Stationery Stores | pt. | 459410 | Office Supplies and Stationery Retailers.
453220 | Gift, Novelty, and Souvenir Stores | pt. | 459420 | Gift, Novelty, and Souvenir Retailers.
453310 | Used Merchandise Stores | pt. | 459510 | Used Merchandise Retailers.
453910 | Pet and Pet Supplies Stores | pt. | 459910 | Pet and Pet Supplies Retailers.
453920 | Art Dealers | pt. | 459920 | Art Dealers.
453930 | Manufactured (Mobile) Home Dealers |  | 459930 | Manufactured (Mobile) Home Dealers.
453991 | Tobacco Stores | pt. | 459991 | Tobacco, Electronic Cigarette, and Other Smoking Supplies Retailers.
453998 | All Other Miscellaneous Store Retailers (except Tobacco Stores):
| general merchandise auction houses | pt. | 455219 | All Other General Merchandise Retailers.
| electronic cigarette stores and marijuana stores, medical or recreational | pt. | 459991 | Tobacco, Electronic Cigarette, and Other Smoking Supplies Retailers.
| except general merchandise auction houses, electronic cigarette stores, and marijuana stores, medical or recreational | pt. | 459999 | All Other Miscellaneous Retailers.
454110 | Electronic Shopping and Mail-Order Houses | pt. | 441227 | Motorcycle, ATV, and All Other Motor Vehicle Dealers.
|  | pt. | 441330 | Automotive Parts and Accessories Retailers.
|  | pt. | 441340 | Tire Dealers.
|  | pt. | 444140 | Hardware Retailers.
|  | pt. | 444180 | Other Building Material Dealers.
|  | pt. | 444230 | Outdoor Power Equipment Retailers.
|  | pt. | 444240 | Nursery, Garden Center, and Farm Supply Retailers.
|  | pt. | 445131 | Convenience Retailers.
|  | pt. | 445240 | Meat Retailers.
|  | pt. | 445250 | Fish and Seafood Retailers.
|  | pt. | 445298 | All Other Specialty Food Retailers.
|  | pt. | 445320 | Beer, Wine, and Liquor Retailers.
|  | pt. | 449110 | Furniture Retailers.
|  | pt. | 449121 | Floor Covering Retailers.
|  | pt. | 449122 | Window Treatment Retailers.
|  | pt. | 449129 | All Other Home Furnishings Retailers.
|  | pt. | 449210 | Electronics and Appliance Retailers.
|  | pt. | 455110 | Department Stores.
|  | pt. | 455211 | Warehouse Clubs and Supercenters.
|  | pt. | 455219 | All Other General Merchandise Retailers.
|  | pt. | 456110 | Pharmacies and Drug Retailers.
|  | pt. | 456120 | Cosmetics, Beauty Supplies, and Perfume Retailers.
|  | pt. | 456130 | Optical Goods Retailers.
|  | pt. | 456191 | Food (Health) Supplement Retailers.
|  | pt. | 456199 | All Other Health and Personal Care Retailers.
|  | pt. | 458110 | Clothing and Clothing Accessories Retailers.
|  | pt. | 458210 | Shoe Retailers.
|  | pt. | 458310 | Jewelry Retailers.
|  | pt. | 458320 | Luggage and Leather Goods Retailers.
|  | pt. | 459110 | Sporting Goods Retailers.
|  | pt. | 459120 | Hobby, Toy, and Game Retailers.
|  | pt. | 459130 | Sewing, Needlework, and Piece Goods Retailers.
|  | pt. | 459140 | Musical Instrument and Supplies Retailers.
|  | pt. | 459210 | Book Retailers and News Dealers.
|  | pt. | 459310 | Florists.
|  | pt. | 459410 | Office Supplies and Stationery Retailers.
|  | pt. | 459420 | Gift, Novelty, and Souvenir Retailers.
|  | pt. | 459510 | Used Merchandise Retailers.
|  | pt. | 459910 | Pet and Pet Supplies Retailers.
|  | pt. | 459920 | Art Dealers.
|  | pt. | 459991 | Tobacco, Electronic Cigarette, and Other Smoking Supplies Retailers.
|  | pt. | 459999 | All Other Miscellaneous Retailers.
454210 | Vending Machine Operators |  | 445132 | Vending Machine Operators.
454310 | Fuel Dealers |  | 457210 | Fuel Dealers.
454390 | Other Direct Selling Establishments | pt. | 441330 | Automotive Parts and Accessories Retailers.
|  | pt. | 441340 | Tire Dealers.
|  | pt. | 444140 | Hardware Retailers.
|  | pt. | 444180 | Other Building Material Dealers.
|  | pt. | 444230 | Outdoor Power Equipment Retailers.
|  | pt. | 444240 | Nursery, Garden Center, and Farm Supply Retailers.
|  | pt. | 445131 | Convenience Retailers.
|  | pt. | 445240 | Meat Retailers.
|  | pt. | 445250 | Fish and Seafood Retailers.
|  | pt. | 445298 | All Other Specialty Food Retailers.
|  | pt. | 445320 | Beer, Wine, and Liquor Retailers.
|  | pt. | 449110 | Furniture Retailers.
|  | pt. | 449121 | Floor Covering Retailers.
|  | pt. | 449122 | Window Treatment Retailers.
|  | pt. | 449129 | All Other Home Furnishings Retailers.
|  | pt. | 449210 | Electronics and Appliance Retailers.
|  | pt. | 455219 | All Other General Merchandise Retailers.
|  | pt. | 456110 | Pharmacies and Drug Retailers.
|  | pt. | 456120 | Cosmetics, Beauty Supplies, and Perfume Retailers.
|  | pt. | 456130 | Optical Goods Retailers.
|  | pt. | 456191 | Food (Health) Supplement Retailers.
|  | pt. | 456199 | All Other Health and Personal Care Retailers.
|  | pt. | 458110 | Clothing and Clothing Accessories Retailers.
|  | pt. | 458210 | Shoe Retailers.
|  | pt. | 458310 | Jewelry Retailers.
|  | pt. | 458320 | Luggage and Leather Goods Retailers.
|  | pt. | 459110 | Sporting Goods Retailers.
|  | pt. | 459120 | Hobby, Toy, and Game Retailers.
|  | pt. | 459130 | Sewing, Needlework, and Piece Goods Retailers.
|  | pt. | 459140 | Musical Instrument and Supplies Retailers.
|  | pt. | 459210 | Book Retailers and News Dealers.
|  | pt. | 459310 | Florists.
|  | pt. | 459410 | Office Supplies and Stationery Retailers.
|  | pt. | 459420 | Gift, Novelty, and Souvenir Retailers.
|  | pt. | 459510 | Used Merchandise Retailers.
|  | pt. | 459910 | Pet and Pet Supplies Retailers.
|  | pt. | 459920 | Art Dealers.
|  | pt. | 459991 | Tobacco, Electronic Cigarette, and Other Smoking Supplies Retailers.
|  | pt. | 459999 | All Other Miscellaneous Retailers.
511110 | Newspaper Publishers | pt. | 513110 | Newspaper Publishers.
511120 | Periodical Publishers | pt. | 513120 | Periodical Publishers.
511130 | Book Publishers | pt. | 513130 | Book Publishers.
511140 | Directory and Mailing List Publishers | pt. | 513140 | Directory and Mailing List Publishers.
511191 | Greeting Card Publishers | pt. | 513191 | Greeting Card Publishers.
511199 | All Other Publishers | pt. | 513199 | All Other Publishers.
511210 | Software Publishers |  | 513210 | Software Publishers.
515111 | Radio Networks | pt. | 516210 | Media Streaming Distribution Services, Social Networks, and Other Media Networks and Content Providers.
515112 | Radio Stations |  | 516110 | Radio Broadcasting Stations.
515120 | Television Broadcasting:
| television broadcasting stations |  | 516120 | Television Broadcasting Stations.
| television networks | pt. | 516210 | Media Streaming Distribution Services, Social Networks, and Other Media Networks and Content Providers.
515210 | Cable and Other Subscription Programming | pt. | 516210 | Media Streaming Distribution Services, Social Networks, and Other Media Networks and Content Providers.
517311 | Wired Telecommunications Carriers |  | 517111 | Wired Telecommunications Carriers.
517312 | Wireless Telecommunications Carriers (except Satellite):
| except agents for wireless telecommunications carriers |  | 517112 | Wireless Telecommunications Carriers (except Satellite).
| agents for wireless telecommunications carriers | pt. | 517122 | Agents for Wireless Telecommunications Services.
517911 | Telecommunications Resellers:
| except agents for wireless telecommunications resellers |  | 517121 | Telecommunications Resellers.
| agents for wireless telecommunications resellers | pt. | 517122 | Agents for Wireless Telecommunications Services.
517919 | All Other Telecommunications |  | 517810 | All Other Telecommunications.
519110 | News Syndicates | pt. | 516210 | Media Streaming Distribution Services, Social Networks, and Other Media Networks and Content Providers.
519120 | Libraries and Archives |  | 519210 | Libraries and Archives.
519130 | Internet Publishing and Broadcasting and Web Search Portals:
| Internet newspaper publishers | pt. | 513110 | Newspaper Publishers.
| Internet periodical publishers | pt. | 513120 | Periodical Publishers.
| Internet book publishers | pt. | 513130 | Book Publishers.
| Internet directory and mailing list publishers | pt. | 513140 | Directory and Mailing List Publishers.
| Internet greeting card publishers | pt. | 513191 | Greeting Card Publishers.
| all other Internet publishers | pt. | 513199 | All Other Publishers.
| Internet broadcasting | pt. | 516210 | Media Streaming Distribution Services, Social Networks, and Other Media Networks and Content Providers.
| web search portals | pt. | 519290 | Web Search Portals and All Other Information Services.
519190 | All Other Information Services | pt. | 519290 | Web Search Portals and All Other Information Services.
522120 | Savings Institutions | pt. | 522180 | Savings Institutions and Other Depository Credit Intermediation.
522190 | Other Depository Credit Intermediation | pt. | 522180 | Savings Institutions and Other Depository Credit Intermediation.
522293 | International Trade Financing | pt. | 522299 | International, Secondary Market, and All Other Nondepository Credit Intermediation.
522294 | Secondary Market Financing | pt. | 522299 | International, Secondary Market, and All Other Nondepository Credit Intermediation.
522298 | All Other Nondepository Credit Intermediation | pt. | 522299 | International, Secondary Market, and All Other Nondepository Credit Intermediation.
523110 | Investment Banking and Securities Dealing | pt. | 523150 | Investment Banking and Securities Intermediation.
523120 | Securities Brokerage | pt. | 523150 | Investment Banking and Securities Intermediation.
523130 | Commodity Contracts Dealing | pt. | 523160 | Commodity Contracts Intermediation.
523140 | Commodity Contracts Brokerage | pt. | 523160 | Commodity Contracts Intermediation.
523920 | Portfolio Management | pt. | 523940 | Portfolio Management and Investment Advice.
523930 | Investment Advice | pt. | 523940 | Portfolio Management and Investment Advice.
811112 | Automotive Exhaust System Repair | pt. | 811114 | Specialized Automotive Repair.
811113 | Automotive Transmission Repair | pt. | 811114 | Specialized Automotive Repair.
811118 | Other Automotive Mechanical and Electrical Repair and Maintenance | pt. | 811114 | Specialized Automotive Repair.
811211 | Consumer Electronics Repair and Maintenance | pt. | 811210 | Electronic and Precision Equipment Repair and Maintenance.
811212 | Computer and Office Machine Repair and Maintenance | pt. | 811210 | Electronic and Precision Equipment Repair and Maintenance.
811213 | Communication Equipment Repair and Maintenance | pt. | 811210 | Electronic and Precision Equipment Repair and Maintenance.
811219 | Other Electronic and Precision Equipment Repair and Maintenance | pt. | 811210 | Electronic and Precision Equipment Repair and Maintenance.
pt.—Part of 2022 NAICS United States industry.

Table 2—ECPC Recommendations for 2022 NAICS United States Matched to 2017 NAICS United States
2022 NAICS code | 2022 NAICS description | Status code | 2017 NAICS code | 2017 NAICS description
212114 | Surface Coal Mining. | N | 212111 | Bituminous Coal and Lignite Surface Mining.
|  |  | *212113 | Anthracite Mining—anthracite surface mining.
212115 | Underground Coal Mining | N | 212112 | Bituminous Coal Underground Mining.
|  |  | *212113 | Anthracite Mining—anthracite underground mining.
212220 | Gold Ore and Silver Ore Mining | N | 212221 | Gold Ore Mining.
|  |  | 212222 | Silver Ore Mining.
212290 | Other Metal Ore Mining | N | 212291 | Uranium-Radium-Vanadium Ore Mining.
|  |  | 212299 | All Other Metal Ore Mining.
212323 | Kaolin, Clay, and Ceramic and Refractory Minerals Mining | N | 212324 | Kaolin and Ball Clay Mining.
|  |  | 212325 | Clay and Ceramic and Refractory Minerals Mining.
212390 | Other Nonmetallic Mineral Mining and Quarrying | N | 212391 | Potash, Soda, and Borate Mineral Mining.
|  |  | 212392 | Phosphate Rock Mining.
|  |  | 212393 | Other Chemical and Fertilizer Mineral Mining.
|  |  | 212399 | All Other Nonmetallic Mineral Mining.
31512 | Apparel Knitting Mills
315120 | Apparel Knitting Mills | N | 315110 | Hosiery and Sock Mills.
|  |  | 315190 | Other Apparel Knitting Mills.
31525 | Cut and Sew Apparel Manufacturing (except Contractors)
315250 | Cut and Sew Apparel Manufacturing (except Contractors) | N | 315220 | Men's and Boys' Cut and Sew Apparel Manufacturing.
|  |  | 315240 | Women's, Girls', and Infants' Cut and Sew Apparel Manufacturing.
|  |  | 315280 | Other Cut and Sew Apparel Manufacturing.
316990 | Other Leather and Allied Product Manufacturing | N | 316992 | Women's Handbag and Purse Manufacturing.
|  |  | 316998 | All Other Leather Good and Allied Product Manufacturing.
321215 | Engineered Wood Member Manufacturing | N | 321213 | Engineered Wood Member (except Truss) Manufacturing.
|  |  | 321214 | Truss Manufacturing.
322120 | Paper Mills | N | 322121 | Paper (except Newsprint) Mills.
|  |  | 322122 | Newsprint Mills.
325314 | Fertilizer (Mixing Only) Manufacturing | R | *325314 | Fertilizer (Mixing Only) Manufacturing—except compost manufacturing.
325315 | Compost Manufacturing | N | *325314 | Fertilizer (Mixing Only) Manufacturing—compost manufacturing.
333248 | All Other Industrial Machinery Manufacturing | N | 333244 | Printing Machinery and Equipment Manufacturing.
|  |  | 333249 | Other Industrial Machinery Manufacturing.
333310 | Commercial and Service Industry Machinery Manufacturing | N | 333314 | Optical Instrument and Lens Manufacturing.
|  |  | 333316 | Photographic and Photocopying Equipment Manufacturing.
|  |  | 333318 | Other Commercial and Service Industry Machinery Manufacturing.
333998 | All Other Miscellaneous General Purpose Machinery Manufacturing | N | 333997 | Scale and Balance Manufacturing.
|  |  | 333999 | All Other Miscellaneous General Purpose Machinery Manufacturing.
334610 | Manufacturing and Reproducing Magnetic and Optical Media | N | 334613 | Blank Magnetic and Optical Recording Media Manufacturing.
|  |  | 334614 | Software and Other Prerecorded Compact Disc, Tape, and Record Reproducing.
33513 | Electric Lighting Equipment Manufacturing
335131 | Residential Electric Lighting Fixture Manufacturing | N | 335121 | Residential Electric Lighting Fixture Manufacturing.
335132 | Commercial, Industrial, and Institutional Electric Lighting Fixture Manufacturing | N | 335122 | Commercial, Industrial, and Institutional Electric Lighting Fixture Manufacturing.
335139 | Electric Lamp Bulb and Other Lighting Equipment Manufacturing | N | 335110 | Electric Lamp Bulb and Part Manufacturing.
|  |  | 335129 | Other Lighting Equipment Manufacturing.
335910 | Battery Manufacturing | N | 335911 | Storage Battery Manufacturing.
|  |  | 335912 | Primary Battery Manufacturing.
336110 | Automobile and Light Duty Motor Vehicle Manufacturing | N | 336111 | Automobile Manufacturing.
|  |  | 336112 | Light Truck and Utility Vehicle Manufacturing.
337126 | Household Furniture (except Wood and Upholstered) Manufacturing | N | 337124 | Metal Household Furniture Manufacturing.
|  |  | 337125 | Household Furniture (except Wood and Metal) Manufacturing.
42435 | Clothing and Clothing Accessories Merchant Wholesalers
424350 | Clothing and Clothing Accessories Merchant Wholesalers | N | 424320 | Men's and Boys' Clothing and Furnishings Merchant Wholesalers.
|  |  | 424330 | Women's, Children's, and Infants' Clothing and Accessories Merchant Wholesalers.
42512 | Wholesale Trade Agents and Brokers
425120 | Wholesale Trade Agents and Brokers | R | 425110 | Business to Business Electronic Markets.
|  |  | 425120 | Wholesale Trade Agents and Brokers.
441227 | Motorcycle, ATV, and All Other Motor Vehicle Dealers | N | 441228 | Motorcycle, ATV, and All Other Motor Vehicle Dealers.
|  |  | *454110 | Electronic Shopping and Mail-Order Houses.
4413 | Automotive Parts, Accessories, and Tire Retailers
44133 | Automotive Parts and Accessories Retailers
441330 | Automotive Parts and Accessories Retailers | N | 441310 | Automotive Parts and Accessories Stores.
|  |  | *454110 | Electronic Shopping and Mail-Order Houses.
|  |  | *454390 | Other Direct Selling Establishments.
44134 | Tire Dealers
441340 | Tire Dealers | N | 441320 | Tire Dealers.
|  |  | *454110 | Electronic Shopping and Mail-Order Houses.
|  |  | *454390 | Other Direct Selling Establishments.
44414 | Hardware Retailers
444140 | Hardware Retailers | N | 444130 | Hardware Stores.
|  |  | *454110 | Electronic Shopping and Mail-Order Houses.
|  |  | *454390 | Other Direct Selling Establishments.
44418 | Other Building Material Dealers
444180 | Other Building Material Dealers | N | 444190 | Other Building Material Dealers.
|  |  | *454110 | Electronic Shopping and Mail-Order Houses.
|  |  | *454390 | Other Direct Selling Establishments.
4442 | Lawn and Garden Equipment and Supplies Retailers
44423 | Outdoor Power Equipment Retailers
444230 | Outdoor Power Equipment Retailers | N | 444210 | Outdoor Power Equipment Stores.
|  |  | *454110 | Electronic Shopping and Mail-Order Houses.
|  |  | *454390 | Other Direct Selling Establishments.
44424 | Nursery, Garden Center, and Farm Supply Retailers
444240 | Nursery, Garden Center, and Farm Supply Retailers | N | 444220 | Nursery, Garden Center, and Farm Supply Stores.
|  |  | *454110 | Electronic Shopping and Mail-Order Houses.
|  |  | *454390 | Other Direct Selling Establishments.
44513 | Convenience Retailers and Vending Machine Operators
445131 | Convenience Retailers | N | 445120 | Convenience Stores.
|  |  | *454110 | Electronic Shopping and Mail-Order Houses.
|  |  | *454390 | Other Direct Selling Establishments.
445132 | Vending Machine Operators | N | 454210 | Vending Machine Operators.
44524 | Meat Retailers
445240 | Meat Retailers | N | 445210 | Meat Markets.
|  |  | *454110 | Electronic Shopping and Mail-Order Houses.
|  |  | *454390 | Other Direct Selling Establishments.
44525 | Fish and Seafood Retailers
445250 | Fish and Seafood Retailers | N | 445220 | Fish and Seafood Markets.
|  |  | *454110 | Electronic Shopping and Mail-Order Houses.
|  |  | *454390 | Other Direct Selling Establishments.
445298 | All Other Specialty Food Retailers | N | 445299 | All Other Specialty Food Stores.
|  |  | *454110 | Electronic Shopping and Mail-Order Houses.
|  |  | *454390 | Other Direct Selling Establishments.
4453 | Beer, Wine, and Liquor Retailers
44532 | Beer, Wine, and Liquor Retailers
445320 | Beer, Wine, and Liquor Retailers | N | 445310 | Beer, Wine, and Liquor Stores.
|  |  | *454110 | Electronic Shopping and Mail-Order Houses.
|  |  | *454390 | Other Direct Selling Establishments.
449 | Furniture, Home Furnishings, Electronics, and Appliance Retailers
4491 | Furniture and Home Furnishings Retailers
44911 | Furniture Retailers
449110 | Furniture Retailers | N | 442110 | Furniture Stores.
|  |  | *454110 | Electronic Shopping and Mail-Order Houses.
|  |  | *454390 | Other Direct Selling Establishments.
44912 | Home Furnishings Retailers
449121 | Floor Covering Retailers | N | 442210 | Floor Covering Stores.
|  |  | *454110 | Electronic Shopping and Mail-Order Houses.
|  |  | *454390 | Other Direct Selling Establishments.
449122 | Window Treatment Retailers | N | 442291 | Window Treatment Stores.
|  |  | *454110 | Electronic Shopping and Mail-Order Houses.
|  |  | *454390 | Other Direct Selling Establishments.
449129 | All Other Home Furnishings Retailers | N | 442299 | All Other Home Furnishings Stores.
|  |  | *454110 | Electronic Shopping and Mail-Order Houses.
|  |  | *454390 | Other Direct Selling Establishments.
4492 | Electronics and Appliance Retailers
44921 | Electronics and Appliance Retailers
449210 | Electronics and Appliance Retailers | N | 443141 | Household Appliance Stores.
|  |  | 443142 | Electronics Stores.
|  |  | *454110 | Electronic Shopping and Mail-Order Houses.
|  |  | *454390 | Other Direct Selling Establishments.
455 | General Merchandise Retailers
4551 | Department Stores
45511 | Department Stores
455110 | Department Stores | N | 452210 | Department Stores.
|  |  | *454110 | Electronic Shopping and Mail-Order Houses.
4552 | Warehouse Clubs, Supercenters, and Other General Merchandise Retailers
45521 | Warehouse Clubs, Supercenters, and Other General Merchandise Retailers
455211 | Warehouse Clubs and Supercenters | N | 452311 | Warehouse Clubs and Supercenters.
|  |  | *454110 | Electronic Shopping and Mail-Order Houses.
455219 | All Other General Merchandise Retailers | N | 452319 | All Other General Merchandise Stores.
|  |  | *453998 | All Other Miscellaneous Store Retailers (except Tobacco Stores)—general merchandise auction houses.
|  |  | *454110 | Electronic Shopping and Mail-Order Houses.
|  |  | *454390 | Other Direct Selling Establishments.
456 | Health and Personal Care Retailers
4561 | Health and Personal Care Retailers
45611 | Pharmacies and Drug Retailers
456110 | Pharmacies and Drug Retailers | N | 446110 | Pharmacies and Drug Stores.
|  |  | *454110 | Electronic Shopping and Mail-Order Houses.
|  |  | *454390 | Other Direct Selling Establishments.
45612 | Cosmetics, Beauty Supplies, and Perfume Retailers
456120 | Cosmetics, Beauty Supplies, and Perfume Retailers | N | 446120 | Cosmetics, Beauty Supplies, and Perfume Stores.
|  |  | *454110 | Electronic Shopping and Mail-Order Houses.
|  |  | *454390 | Other Direct Selling Establishments.
45613 | Optical Goods Retailers
456130 | Optical Goods Retailers | N | 446130 | Optical Goods Stores.
|  |  | *454110 | Electronic Shopping and Mail-Order Houses.
|  |  | *454390 | Other Direct Selling Establishments.
45619 | Other Health and Personal Care Retailers
456191 | Food (Health) Supplement Retailers | N | 446191 | Food (Health) Supplement Stores.
|  |  | *454110 | Electronic Shopping and Mail-Order Houses.
|  |  | *454390 | Other Direct Selling Establishments.
456199 | All Other Health and Personal Care Retailers | N | 446199 | All Other Health and Personal Care Stores.
|  |  | *454110 | Electronic Shopping and Mail-Order Houses.
|  |  | *454390 | Other Direct Selling Establishments.
457 | Gasoline Stations and Fuel Dealers
4571 | Gasoline Stations
45711 | Gasoline Stations with Convenience Stores
457110 | Gasoline Stations with Convenience Stores | N | 447110 | Gasoline Stations with Convenience Stores.
45712 | Other Gasoline Stations
457120 | Other Gasoline Stations | N | 447190 | Other Gasoline Stations.
4572 | Fuel Dealers
45721 | Fuel Dealers
457210 | Fuel Dealers | N | 454310 | Fuel Dealers.
458 | Clothing, Clothing Accessories, Shoe, and Jewelry Retailers
4581 | Clothing and Clothing Accessories Retailers
45811 | Clothing and Clothing Accessories Retailers
458110 | Clothing and Clothing Accessories Retailers | N | 448110 | Men's Clothing Stores.
|  |  | 448120 | Women's Clothing Stores.
|  |  | 448130 | Children's and Infants' Clothing Stores.
|  |  | 448140 | Family Clothing Stores.
|  |  | 448150 | Clothing Accessories Stores.
|  |  | 448190 | Other Clothing Stores.
|  |  | *454110 | Electronic Shopping and Mail-Order Houses.
|  |  | *454390 | Other Direct Selling Establishments.
4582 | Shoe Retailers
45821 | Shoe Retailers
458210 | Shoe Retailers | N | 448210 | Shoe Stores.
|  |  | *454110 | Electronic Shopping and Mail-Order Houses.
|  |  | *454390 | Other Direct Selling Establishments.
4583 | Jewelry, Luggage, and Leather Goods Retailers
45831 | Jewelry Retailers
458310 | Jewelry Retailers | N | 448310 | Jewelry Stores.
|  |  | *454110 | Electronic Shopping and Mail-Order Houses.
|  |  | *454390 | Other Direct Selling Establishments.
45832 | Luggage and Leather Goods Retailers
458320 | Luggage and Leather Goods Retailers | N | 448320 | Luggage and Leather Goods Stores.
|  |  | *454110 | Electronic Shopping and Mail-Order Houses.
|  |  | *454390 | Other Direct Selling Establishments.
459 | Sporting Goods, Hobby, Musical Instrument, Book, and Miscellaneous Retailers
4591 | Sporting Goods, Hobby, and Musical Instrument Retailers
45911 | Sporting Goods Retailers
459110 | Sporting Goods Retailers | N | 451110 | Sporting Goods Stores.
|  |  | *454110 | Electronic Shopping and Mail-Order Houses.
|  |  | *454390 | Other Direct Selling Establishments.
45912 | Hobby, Toy, and Game Retailers
459120 | Hobby, Toy, and Game Retailers | N | 451120 | Hobby, Toy, and Game Stores.
|  |  | *454110 | Electronic Shopping and Mail-Order Houses.
|  |  | *454390 | Other Direct Selling Establishments.
45913 | Sewing, Needlework, and Piece Goods Retailers
459130 | Sewing, Needlework, and Piece Goods Retailers | N | 451130 | Sewing, Needlework, and Piece Goods Stores.
|  |  | *454110 | Electronic Shopping and Mail-Order Houses.
|  |  | *454390 | Other Direct Selling Establishments.
45914 | Musical Instrument and Supplies Retailers
459140 | Musical Instrument and Supplies Retailers | N | 451140 | Musical Instrument and Supplies Stores.
|  |  | *454110 | Electronic Shopping and Mail-Order Houses.
|  |  | *454390 | Other Direct Selling Establishments.
4592 | Book Retailers and News Dealers
45921 | Book Retailers and News Dealers
459210 | Book Retailers and News Dealers | N | 451211 | Book Stores.
|  |  | 451212 | News Dealers and Newsstands.
|  |  | *454110 | Electronic Shopping and Mail-Order Houses.
|  |  | *454390 | Other Direct Selling Establishments.
4593 | Florists
45931 | Florists
459310 | Florists | N | 453110 | Florists.
|  |  | *454110 | Electronic Shopping and Mail-Order Houses.
|  |  | *454390 | Other Direct Selling Establishments.
4594 | Office Supplies, Stationery, and Gift Retailers
45941 | Office Supplies and Stationery Retailers
459410 | Office Supplies and Stationery Retailers | N | 453210 | Office Supplies and Stationery Stores.
|  |  | *454110 | Electronic Shopping and Mail-Order Houses.
|  |  | *454390 | Other Direct Selling Establishments.
45942 | Gift, Novelty, and Souvenir Retailers
459420 | Gift, Novelty, and Souvenir Retailers | N | 453220 | Gift, Novelty, and Souvenir Stores.
|  |  | *454110 | Electronic Shopping and Mail-Order Houses.
|  |  | *454390 | Other Direct Selling Establishments.
4595 | Used Merchandise Retailers
45951 | Used Merchandise Retailers
459510 | Used Merchandise Retailers | N | 453310 | Used Merchandise Stores.
|  |  | *454110 | Electronic Shopping and Mail-Order Houses.
|  |  | *454390 | Other Direct Selling Establishments.
4599 | Other Miscellaneous Retailers
45991 | Pet and Pet Supplies Retailers
459910 | Pet and Pet Supplies Retailers | N | 453910 | Pet and Pet Supplies Stores.
|  |  | *454110 | Electronic Shopping and Mail-Order Houses.
|  |  | *454390 | Other Direct Selling Establishments.
45992 | Art Dealers
459920 | Art Dealers | N | 453920 | Art Dealers.
|  |  | *454110 | Electronic Shopping and Mail-Order Houses.
|  |  | *454390 | Other Direct Selling Establishments.
45993 | Manufactured (Mobile) Home Dealers
459930 | Manufactured (Mobile) Home Dealers | N | 453930 | Manufactured (Mobile) Home Dealers.
45999 | All Other Miscellaneous Retailers
459991 | Tobacco, Electronic Cigarette, and Other Smoking Supplies Retailers | N | 453991 *453998 | Tobacco Stores. All Other Miscellaneous Store Retailers (except Tobacco Stores)—electronic cigarette stores and marijuana stores, medical or recreational.
|  |  | *454110 | Electronic Shopping and Mail-Order Houses.
|  |  | *454390 | Other Direct Selling Establishments.
459999 | All Other Miscellaneous Retailers | N | *453998 | All Other Miscellaneous Store Retailers (except Tobacco Stores)—except general merchandise auction houses, electronic cigarette stores, and marijuana stores, medical or recreational.
|  |  | *454110 | Electronic Shopping and Mail-Order Houses.
|  |  | *454390 | Other Direct Selling Establishments.
513 | Publishing Industries
5131 | Newspaper, Periodical, Book, and Directory Publishers
51311 | Newspaper Publishers
513110 | Newspaper Publishers | N | 511110 | Newspaper Publishers.
|  |  | *519130 | Internet Publishing and Broadcasting and Web Search Portals—Internet newspaper publishers.
51312 | Periodical Publishers
513120 | Periodical Publishers | N | 511120 | Periodical Publishers.
|  |  | *519130 | Internet Publishing and Broadcasting and Web Search Portals—Internet periodical publishers.
51313 | Book Publishers
513130 | Book Publishers | N | 511130 | Book Publishers.
|  |  | *519130 | Internet Publishing and Broadcasting and Web Search Portals—Internet book publishers.
51314 | Directory and Mailing List Publishers
513140 | Directory and Mailing List Publishers | N | 511140 | Directory and Mailing List Publishers.
|  |  | *519130 | Internet Publishing and Broadcasting and Web Search Portals—Internet directory and mailing list publishers.
51319 | Other Publishers
513191 | Greeting Card Publishers | N | 511191 | Greeting Card Publishers.
|  |  | *519130 | Internet Publishing and Broadcasting and Web Search Portals—Internet greeting card publishers.
513199 | All Other Publishers | N | 511199 | All Other Publishers.
|  |  | *519130 | Internet Publishing and Broadcasting and Web Search Portals—all other Internet publishers.
5132 | Software Publishers
51321 | Software Publishers
513210 | Software Publishers | N | 511210 | Software Publishers.
516 | Broadcasting and Content Providers
5161 | Radio and Television Broadcasting Stations
51611 | Radio Broadcasting Stations
516110 | Radio Broadcasting Stations | N | 515112 | Radio Stations.
51612 | Television Broadcasting Stations
516120 | Television Broadcasting Stations | N | *515120 | Television Broadcasting—television broadcasting stations.
5162 | Media Streaming Distribution Services, Social Networks, and Other Media Networks and Content Providers
51621 | Media Streaming Distribution Services, Social Networks, and Other Media Networks and Content Providers
516210 | Media Streaming Distribution Services, Social Networks, and Other Media Networks and Content Providers | N | 515111 | Radio Networks.
|  |  | *515120 | Television Broadcasting—television networks.
|  |  | 515210 | Cable and Other Subscription Programming.
|  |  | 519110 | News Syndicates.
|  |  | *519130 | Internet Publishing and Broadcasting and Web Search Portals—Internet broadcasting.
5171 | Wired and Wireless Telecommunications (except Satellite)
51711 | Wired and Wireless Telecommunications Carriers (except Satellite)
517111 | Wired Telecommunications Carriers | N | 517311 | Wired Telecommunications Carriers.
517112 | Wireless Telecommunications Carriers (except Satellite) | N | *517312 | Wireless Telecommunications Carriers (except Satellite)—except agents for wireless telecommunications carriers.
51712 | Telecommunications Resellers and Agents for Wireless Telecommunication Services
517121 | Telecommunications Resellers | N | *517911 | Telecommunications Resellers—except agents for wireless telecommunications resellers.
517122 | Agents for Wireless Telecommunications Services | N | *517312 | Wireless Telecommunications Carriers (except Satellite)—agents for wireless telecommunications carriers.
|  |  | *517911 | Telecommunications Resellers—agents for wireless telecommunications resellers.
5178 | All Other Telecommunications
51781 | All Other Telecommunications
517810 | All Other Telecommunications | N | 517919 | All Other Telecommunications.
519 | Web Search Portals, Libraries, Archives, and Other Information Services | R | *519 | Other Information Services—except news syndicates and Internet publishing and broadcasting.
5192 | Web Search Portals, Libraries, Archives, and Other Information Services
51921 | Libraries and Archives
519210 | Libraries and Archives | N | 519120 | Libraries and Archives.
51929 | Web Search Portals and All Other Information Services
519290 | Web Search Portals and All Other Information Services | N | *519130 | Internet Publishing and Broadcasting and Web Search Portals—web search portals.
|  |  | 519190 | All Other Information Services.
52218 | Savings Institutions and Other Depository Credit Intermediation
522180 | Savings Institutions and Other Depository Credit Intermediation | N | 522120 | Savings Institutions.
|  |  | 522190 | Other Depository Credit Intermediation.
522299 | International, Secondary Market, and All Other Nondepository Credit Intermediation | N | 522293 | International Trade Financing.
|  |  | 522294 | Secondary Market Financing.
|  |  | 522298 | All Other Nondepository Credit Intermediation.
52315 | Investment Banking and Securities Intermediation
523150 | Investment Banking and Securities Intermediation | N | 523110 | Investment Banking and Securities Dealing.
|  |  | 523120 | Securities Brokerage.
52316 | Commodity Contracts Intermediation
523160 | Commodity Contracts Intermediation | N | 523130 | Commodity Contracts Dealing.
|  |  | 523140 | Commodity Contracts Brokerage.
52394 | Portfolio Management and Investment Advice
523940 | Portfolio Management and Investment Advice | N | 523920 | Portfolio Management.
|  |  | 523930 | Investment Advice.
811114 | Specialized Automotive Repair | N | 811112 | Automotive Exhaust System Repair.
|  |  | 811113 | Automotive Transmission Repair.
|  |  | 811118 | Other Automotive Mechanical and Electrical Repair and Maintenance.
811210 | Electronic and Precision Equipment Repair and Maintenance | N | 811211 | Consumer Electronics Repair and Maintenance.
|  |  | 811212 | Computer and Office Machine Repair and Maintenance.
|  |  | 811213 | Communication Equipment Repair and Maintenance.
|  |  | 811219 | Other Electronic and Precision Equipment Repair and Maintenance.
N—new NAICS industry/code for 2022; *—Part of 2017 NAICS United States industry; R—2017 NAICS industry code reused with different content.

Sharon I. Block,
Acting Administrator, Office of Information and Regulatory Affairs.

[FR Doc. 2021-14249 Filed 7-1-21; 8:45 am]

BILLING CODE 3110-01-P